FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 2813F.

Name: Vital International Freight Services, Inc.

Address: 5200 W. Century Blvd., Suite 290, Los Angeles, CA 90045.

Date Revoked: April 11, 2011.

Reason: Failed to maintain a valid bond.

License Number: 004093F.

Name: Marathon International Transport Services, LLP.

Address: 7100 Washington Avenue, South, Eden Prairie, MN 55344.

Date Revoked: April 23, 2011.

Reason: Failed to maintain a valid bond.

License Number: 4473N.

Name: Maromar International Freight Forwarders Inc. dba Maromar Shipping Line.

Address: 8710 NW. 99th Street, Medley, FL 33178.

Date Revoked: April 8, 2011.

Reason: Failed to maintain a valid bond.

License Number: 4677F.

Name: B.M. & P. International, Inc.

Address: 2150 East College Avenue, Suite B, Cudahy, WI 53110.

Date Revoked: April 28, 2011.

Reason: Failed to maintain a valid bond.

License Number: 10873F.

Name: Ameripack Services, Inc.

Address: 4696 NW. 74th Avenue, Miami, FL 33166.

Date Revoked: April 27, 2011.

Reason: Failed to maintain a valid bond.

License Number: 15191N.

Name: Conti-Mar, Inc.

Address: 4456 NW. 102nd Place, Doral, FL 33178.

Date Revoked: April 2, 2011.

Reason: Failed to maintain a valid bond.

License Number: 017925N.

Name: Elite Express Co., Inc.

Address: 1555 W. Willow Street, Long Beach, CA 90810.

Date Revoked: April 1, 2011.

Reason: Failed to maintain a valid bond.

License Number: 018088F.

Name: ILS-International Logistics Solutions, Inc.

Address: 1345 East Chandler Road, Building 1, Suite 205, Phoenix, AZ 85048.

Date Revoked: March 31, 2011.

Reason: Failed to maintain a valid bond.

License Number: 019818NF.

Name: Chumarks International Company Limited

Address: 3122 Fulton Street, Ground Floor, Brooklyn, NY 11208.

Date Revoked: April 22, 2011.

Reason: Failed to maintain valid bonds.

License Number: 018328F.

Name: Sentry Cargo International, Inc.

Address: 8322 NW. 68th Street, Miami, FL 33166.

Date Revoked: April 3, 2011.

Reason: Failed to maintain a valid bond.

License Number: 019868N.

Name: Zenith Logistic (USA) Inc.

Address: 175-01 Rockaway Blvd., Suite 218, Jamaica, NY 11434.

Date Revoked: April 27, 2011.

Reason: Failed to maintain a valid bond.

License Number: 019914NF.

Name: Princess Cargo.

Address: 646 West Pacific Coast Highway, Long Beach, CA 90806.

Date Revoked: April 18, 2011.

Reason: Failed to maintain valid bonds.

License Number: 020264N.

Name: Empire Shipping Co. Inc.

Address: 100 East Peddie Street, Newark, NJ 07114.

Date Revoked: April 2, 2011.

Reason: Failed to maintain a valid bond.

License Number: 020387N.

Name: Embarque M. Calvo, Inc.

Address: 1220 Brook Avenue, Bronx, NY 10456.

Date Revoked: April 7, 2011.

Reason: Failed to maintain a valid bond.

License Number: 020656F.

Name: Dulce Auto Import & Export, Inc.

Address: 15316 SW. 16th Terrace, Miami, FL 33185.

Date Revoked: April 15, 2011.

Reason: Failed to maintain a valid bond.

License Number: 021303N.

Name: Guzal Cargo Express Corp.

Address: 5561 NW. 72nd Avenue, Miami, FL 33166.

Date Revoked: April 28, 2011.

Reason: Failed to maintain a valid bond.

License Number: 021355N.

Name: LQ Logistic Inc.

Address: 820 S. Garfield Avenue, Suite 202, Alhambra, CA 91801.

Date Revoked: April 21, 2011.

Reason: Failed to maintain a valid bond.

License Number: 021715N.

Name: E-Z Cargo Inc.

Address: 501 New Country Road, Secaucus, NJ 07094.

Date Revoked: April 27, 2011.

Reason: Surrendered license voluntarily.

License Number: 022056N.

Name: Prolog Services Inc. dba PSI Ocean Freight Systems.

Address: 5803 Sovereign Drive, Suite 220, Houston, TX 77036.

Date Revoked: April 9, 2011.

Reason: Failed to maintain a valid bond.

License Number: 022232NF.

Name: Simos Logistics Co., Inc.

Address: 732 South Raven Road, Shourewood, IL 60404.

Date Revoked: April 7, 2011.

Reason: Failed to maintain valid bonds.

Sandra L. Kusumoto,
Director, Bureau of Certification and Licensing.

[FR Doc. 2011-12222 Filed 5-17-11; 8:45 am]

BILLING CODE 6730-01-P